DEPARTMENT OF JUSTICE

Notice of Lodging of Consent Decree Under the Clean Air Act

Under the policy set out at 28 CFR 50.7, notice is hereby given that on May 8, 2006, the United States lodged with the United States District Court for the Eastern District of Virginia a proposed amended consent decree (“Amended Consent Decree”) in the case of United States, et al. v. Mirant Potomac River, LLC, et al., Civ. A. No. 1:04CV1136.

The Amended Consent Decree settles claims by the United States, the State of Maryland and the Commonwealth of Virginia, pursuant to section 113(a) and (b) of the Clean Air Act, 42 U.S.C. 7413(a) and (b), against Mirant Potomac River, LLC and Mirant Mid-Atlantic, LLC (“Mirant”) regarding its Potomac River Generating Station—a coal-fired utility plant in Alexandria, Virginia. A complaint filed with the original decree, lodged with the same Federal court in September 2004, alleged that Mirant violated the ozone season limitation for nitrogen oxide (“NOX”) emissions set forth in the 2003 operating permit for the Potomac River plan.

The Amended Consent Decree retains the key elements of the original decree. Mirant agrees to a declining schedule of system-wide limits on the NOX emissions from its four plants located in the mid-Atlantic region: The Chalk Point Generating Plant in Prince George's County, Maryland; the Dickerson Generating Plant in Montgomery County, Maryland; the Morgantown Generating Plant in Charles County, Maryland; and the Potomac River plant. To achieve these reductions and meet the declining NOX caps, Mirant agrees to install and operate NOX pollution control equipment, including two Selective Catalytic Reduction devices, at its Morgantown plant, and Separated Over-Fire Air technology at its Potomac River plant. Mirant also agrees to pay a $500,000 civil penalty, to be divided equally between Virginia and the United States, and to undertake nine projects designed to reduce particulate matter and fugitive dust emissions from its Potomac River plant.

The Amended Consent Decree modifies the original consent decree in several respects, as a result of public comments received on the original decree. First, under the Amended Consent Decree, Mirant agrees to meet annual NOX tonnage limitations for the Potomac River plant in addition to the tonnage limitations that apply only during the ozone season. Second, the Amended Consent Decree addresses the possibility that at some future point Mirant could reject, sever or otherwise lose its ownership interest in, and thereby cease to operate, the Morgantown and/or Dickerson plants. If such a contingency occurs, Mirant agrees to seek a new owner or operator of those plants to become subject to the terms of the decree and, failing that, to install an alternate suite of pollution control technologies on the two plants remaining in the Mirant system, i.e., the Chalk Point and Potomac River plants.

The Department of Justice will receive for a period of thirty (30) days from the date of this publication comments relating to the Amended Consent Decree. Comments should be addressed to the Assistant Attorney General, Environment and Natural Resources Division, P.O. Box 7611, U.S. Department of Justice, Washington, DC 20044-7611, and should refer to United States, et al. v. Mirant Potomac River, LLC, et al., DOJ Ref. No. 90-5-2-1-07829.

The Amended Consent Decree may be examined at the offices of the United States Attorney, Eastern District of Virginia, 2100 Jamieson Avenue, Alexandria, VA 22314, and at the offices of U.S. EPA Region 3, 1650 Arch Street, Philadelphia, PA 19103.

During the public comment period, the Amended Consent Decree may also be examined on the following Department of Justice Web site, http://www.usdoj.gov/enrd/open.html. A copy of the Amended Consent Decree may also be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of 25 dollars (25 cents per page reproduction cost) payable to the U.S. Treasury.

W. Benjamin Fisherow,
Deputy Chief, Environmental Enforcement Section, Environment and Natural Resources Division.

[FR Doc. 06-4835 Filed 5-24-06; 8:45 am]

BILLING CODE 4410-15-M